DEPARTMENT OF DEFENSE

Department of the Army

Intent To Grant an Exclusive License of U.S. Government-Owned Invention

AGENCY: Department of the Army, DoD.

ACTION: Notice.

SUMMARY: In accordance with 35 U.S.C. 209(e), and 37 CFR 404.7(a)(1)(i) and 37 CFR 404.7(b)(1)(i), announcement is made of the intent to grant an exclusive, revocable license to the invention claimed in International Patent Application No. PCT/US2009/060852 entitled “Method and Device for Detection of Bioavailable Drug Concentration In A Fluid Sample,” filed on October 15, 2009 (which claims the benefit of U.S. Provisional Patent Application Serial No. 61/105,604 filed October 15, 2008). The intended licensee is The University of Tennessee with its principal place of business at UT Conference Center, Suite 211, 600 Henley Street, Knoxville, TN 37996-4122.

ADDRESSES: Commander, U.S. Army Medical Research and Materiel Command, ATTN: Command Judge Advocate, MCMR-JA, 504 Scott Street, Fort Detrick, MD 21702-5012.

FOR FURTHER INFORMATION CONTACT: For licensing issues, Dr. Paul Mele, Office of Research & Technology Applications, (301) 619-6664. For patent issues, Ms. Elizabeth Arwine, Patent Attorney, (301) 619-7808; both at telefax (301) 619-5034.

SUPPLEMENTARY INFORMATION: Anyone wishing to object to grant of this license can file written objections along with supporting evidence, if any, within 15 days from the date of this publication. Written objections are to be filed with the Command Judge Advocate (see ADDRESSES).

Brenda S. Bowen,
Army Federal Register Liaison Officer.

[FR Doc. 2012-1645 Filed 1-25-12; 8:45 am]

BILLING CODE 3710-08-P